DEPARTMENT OF AGRICULTURE

Animal and Plant Health Inspection Service

9 CFR Part 145

[Docket No. APHIS-2007-0042]

RIN 0579-AC78

National Poultry Improvement Plan and Auxiliary Provisions; Technical Amendment

AGENCY: Animal and Plant Health Inspection Service, USDA.

ACTION: Final rule; technical amendment.

SUMMARY: In a final rule that was published in the Federal Register on April 1, 2009 (74 FR 14710-14719, Docket No. APHIS-2007-0042), and effective on May 1, 2009, we amended the National Poultry Improvement Plan (the Plan) and its auxiliary provisions by providing new or modified sampling and testing procedures for Plan participants and participating flocks. In that final rule, we amended the U.S. Avian Influenza Clean program for multiplier meat-type chicken breeding flocks to require that 15 birds be tested to retain the classification, rather than 30. However, our amendatory instruction accomplishing this change also amended the program to require multiplier spent fowl to be tested within 15 days prior to movement to slaughter, rather than 30 days. We had intended to retain the 30-day requirement. This document corrects that error.

DATES: Effective Date: August 3, 2009.

FOR FURTHER INFORMATION CONTACT: Mr. Andrew R. Rhorer, Senior Coordinator, Poultry Improvement Staff, National Poultry Improvement Plan, Veterinary Services, APHIS, USDA, 1498 Klondike Road, Suite 101, Conyers, GA 30094-5104; (770) 922-3496.

SUPPLEMENTARY INFORMATION:

Background

In a final rule that was published in the Federal Register on April 1, 2009 (74 FR 14710-14719, Docket No. APHIS-2007-0042), and effective on May 1, 2009, we amended the National Poultry Improvement Plan (the Plan) and its auxiliary provisions by providing new or modified sampling and testing procedures for Plan participants and participating flocks. The regulations in 9 CFR parts 145, 146, and 147 contain the provisions of the Plan.

We amended the U.S. Avian Influenza Clean program for multiplier meat-type chicken breeding flocks in § 145.33(l) by reducing the sample of birds required to be tested from 30 to 15 and reducing the interval at which the sample must be tested from 180 to 90 days. As the 30-bird sample is referred to 4 times in paragraph (l), the amendatory instruction to accomplish this change indicated that the numeral “30” should be replaced each time it occurred in paragraph (l) with the numeral “15.” However, paragraph (l)(2)(i) of § 145.33 also contained a requirement that multiplier spent fowl be tested within 30 days prior to movement to slaughter. Thus, our amendatory instruction inadvertently changed that requirement to require testing of multiplier spent fowl 15 days prior to slaughter. We had intended to retain the 30-day requirement. This document corrects that error.

List of Subjects in 9 CFR Part 145

Animal diseases, Poultry and poultry products, Reporting and recordkeeping requirements.

Accordingly, we are amending 9 CFR part 145 as follows:

PART 145—NATIONAL POULTRY IMPROVEMENT PLAN FOR BREEDING POULTRY

1. The authority citation for part 145 continues to read as follows:

Authority: 7 U.S.C. 8301-8317; 7 CFR 2.22, 2.80, and 371.4.

§ 145.33 [Amended]

2. In § 145.33, paragraph (l)(2)(i) is amended by removing the words “15 days” and adding the words “30 days” in their place.

Done in Washington, DC, this 27th day of July 2009.
William H. Clay,
Acting Administrator, Animal and Plant Health Inspection Service.

[FR Doc. E9-18485 Filed 7-31-09; 8:45 am]

BILLING CODE 3410-34-P